DEPARTMENT OF HOMELAND SECURITY

Coast Guard

33 CFR Part 100

[Docket No. USCG-2015-0783]

Special Local Regulations; Recurring Marine Events in the Seventh Coast Guard District

AGENCY: Coast Guard, DHS.

ACTION: Notice of enforcement.

SUMMARY: The Coast Guard will enforce the regulation pertaining to the Charleston Parade of Boats from 4:00 p.m. through 8:00 p.m. on December 12, 2015. This action is necessary to ensure safety of life on navigable waters of the United States during the Charleston Parade of Boats. During the enforcement period, the special local regulation establishes a regulated area which will prohibit all people and vessels from entering. Vessels may enter, transit through, anchor in, or remain within the area if authorized by the Captain of the Port Charleston or a designated representative.

DATES: The Charleston Parade of Boats regulation in 33 CFR 100.701 will be enforced from 4:00 p.m. through 8:00 p.m. December 12, 2015.

FOR FURTHER INFORMATION CONTACT: If you have questions on this rule, call or email LT John Downing, Sector Charleston Office of Waterways Management, Coast Guard; telephone 843-740-3184, email John.Z.Downing@uscg.mil.

SUPPLEMENTARY INFORMATION: The Coast Guard will enforce the special local regulation for the Charleston Parade of Boats in 33 CFR 100.701 Table 1 from 4:00 p.m. through 8:00 p.m. on December 12, 2015.

Under the provisions of 33 CFR 100.701 no vessels or people may enter the regulated area, unless it receives permission to do so from the Captain of the Port. Only event sponsors, designated participants, and official patrol vessels are allowed to enter the regulated area. This rule creates a regulated area that will encompass a portion of the waterways during the parade transit from Charleston Harbor Anchorage A through Bennis Reach, Horse Reach, Hog Island Reach, Town Creek Lower Reach, Ashley River, and finishing at City Marina. Spectator vessels may transit outside the regulated area, but may not anchor, block, loiter in, or impede the transit of parade participants or official patrol vessels. The Coast Guard may be assisted by other Federal, State, or local law enforcement agencies in enforcing this regulation.

This document is issued under authority of 33 CFR 100.701 and 5 U.S.C. 552 (a).

The Coast Guard will provide notice of the regulated areas by Local Notice to Mariners, Broadcast Notice to Mariners, and on-scene designated representatives.

Dated: November 10, 2015.
G.L. Tomasulo,
Captain, U.S. Coast Guard, Captain of the Port Charleston.

[FR Doc. 2015-30908 Filed 12-7-15; 8:45 am]

BILLING CODE 9110-04-P